DEPARTMENT OF HEALTH AND HUMAN SERVICES

Substance Abuse and Mental Health Services Administration

[Docket No. 98N-0617]

RIN 0910-AA52

Opioid Drugs in Maintenance and Detoxification Treatment of Opiate Addiction; Notice of Approval of Accreditation Organizations for Opioid Treatment Programs Under 42 CFR Part 8

AGENCY: Substance Abuse and Mental Health Services Administration, DHHS.

ACTION: Notice.

SUMMARY: The Substance Abuse and Mental Health Services Administration (SAMHSA) is announcing the approval of four accreditation organizations under new opioid treatment program regulations. Under the provisions of the new regulations which went into effect on May 18, 2001, opioid treatment programs must apply to one of these approved accreditation organization as a condition of SAMHSA certification.

FOR FURTHER INFORMATION CONTACT: Nicholas Reuter, Center for Substance Abuse Treatment (CSAT), SAMHSA, Rockwall II, 5600 Fishers Lane, Rockville, MD, 20857, 301-443-0457, e-mail: nreuter@samhsa.gov. For further information on accreditation issues contact Raymond Hylton, Center for Substance Abuse Treatment (CSAT), SAMHSA, Rockwall II, 5600 Fishers Lane, Rockville, MD 20857, 301-443-6502, e-mail: rhylton@samhsa.gov.

SUPPLEMENTARY INFORMATION: New regulations effective May 18, 2001 (66 FR 15347, March 19, 2001, see also 66 FR 4092, January 17, 2001) establish an accreditation based regulatory system for opioid treatment programs (OTPs) that use methadone or ORLAAM for the maintenance or detoxification treatment of opiate addiction. Under 42 CFR 8.3, interested private nonprofit organizations or State governmental entities can submit applications to become accreditation bodies under the new rules. Four entities submitted applications and have been determined by SAMHSA under 42 CFR 8.3(d) to substantially meet the conditions for approval.

1. CARF * * * The Rehabilitation Accreditation Commission, 4891 East Grant, Tucson, Arizona 60181, telephone: 520-325-1044, fax: 520-318-1129, Web site: http://www.carf.org/CARF.

2. Council on Accreditation for Children and Family Services, 120 Wall Street, 11th Floor, New York, New York 10005, telephone: 212-797-3000, fax: 212-797-1428, Web site: http://www.coanet.org.

3. Joint Commission on Accreditation of Healthcare Organizations, One Renaissance Boulevard, Oakbrook Terrace, Illinois 60181, telephone: 630-792-5800, fax: 630-792-5005, Web site: http://www.jcaho.org.

4. Division of Alcohol and Substance Abuse, Washington Department of Social and Health Services, Division of Alcohol and Substance Abuse, P.O. Box 45330 (Mail Stop 45330), Olympia, Washington 98504-5330, telephone: 360-438-8056, fax: 360-407-5318, Web site: http://www-app2.wa.gov/dshs/dasa.

SAMHSA is providing this notice to OTPs and others to facilitate accreditation applications as necessary for certification under the provisional and transitional certification provisions of Subpart B of the new regulation (see 42 CFR 8.11(a), (d), and (e)). OTPs with transitional certification must apply to an approved accreditation body no later than March 4, 2002. SAMHSA is also notifying OTPs directly about the approval of these four accreditation organizations and will notify OTPs of future approvals in a similar manner.

Additional information on accreditation and related issues can be obtained from the SAMHSA/CSAT Web page at www.opat.samhsa.gov or by writing to the Substance Abuse and Mental Health Services Administration, CSAT Office of Pharmacologic and Alternative Therapies, Attention: OTP Accreditation Program, 5600 Fishers Lane, Room 12-105, Rockville, MD 20857.

Dated: November 27, 2001.
Richard Kopanda,
Executive Officer, SAMHSA.

[FR Doc. 01-29839 Filed 11-30-01; 8:45 am]

BILLING CODE 4162-20-P